DEPARTMENT OF HOMELAND SECURITY

Coast Guard

33 CFR Part 165

[Docket No. USCG-2020-0435]

Safety Zone; Patuxent and Patapsco Rivers, Solomons, MD, and Baltimore, MD

AGENCY: Coast Guard, DHS.

ACTION: Notice of proposed rulemaking; withdrawal.

SUMMARY: The Coast Guard is withdrawing its proposed rule to establish two separate temporary safety zones for certain waters of the Patuxent River at Solomons, MD, on September 5, 2020, (with an alternate date of September 6, 2020) and the Patapsco River (Inner Harbor) at Baltimore, MD, on October 2, 2020, (with no alternate date), during fireworks displays. The proposed rule is being withdrawn because it is no longer necessary. The event sponsors have cancelled the events.

DATES: As of September 3, 2020, the Coast Guard withdraws the proposed rule published August 7, 2020, (85 FR 47937).

ADDRESSES: To view the docket for this withdrawn rulemaking, go to https://www.regulations.gov, type USCG-2020-0435 in the “SEARCH” box and click “SEARCH.” Click on Open Docket Folder on the line associated with this rule.

FOR FURTHER INFORMATION CONTACT: If you have questions about this notice, call or email MST2 Shaun Landante, Waterways Management Division, U.S. Coast Guard Sector Maryland—National Capital Region; telephone 410-576-2570, email shaun.c.landante@uscg.mil.

SUPPLEMENTARY INFORMATION:

Background

On August 7, 2020, we published a notice of proposed rulemaking entitled “Safety Zone; Patuxent and Patapsco Rivers, Solomons, MD and Baltimore, MD (85 FR 47937). The rulemaking concerned the Coast Guard's proposal to establish temporary safety zones for certain waters of the Patuxent River, near Solomons, MD, effective 8 p.m. to 10:30 p.m. on September 5, 2020, and Patapsco River (Inner Harbor), Baltimore, MD, effective 8 p.m. to 10 p.m. on October 2, 2020. This action was necessary to provide for the safety of life on these waters during two separate fireworks displays. This rulemaking would have prohibited persons and vessels from entering the safety zones unless authorized by the Captain of the Port Maryland—National Capital Region or the Coast Guard Patrol Commander.

Withdrawal

The proposed rule is being withdrawn due to safety zones no longer being necessary following a cancellation of both fireworks displays by the event sponsors.

Authority

We issue this notice of withdrawal under the authority of 46 U.S.C. 70034.

Dated: August 31, 2020.
Joseph B. Loring,
Captain, U.S. Coast Guard, Captain of the Port Maryland—National Capital Region.

[FR Doc. 2020-19639 Filed 9-2-20; 8:45 am]

BILLING CODE 9110-04-P